FEDERAL DEPOSIT INSURANCE CORPORATION

DEPARTMENT OF THE TREASURY

Office of Thrift Supervision

Agency Information Collection Activities: Submission to OMB for Review; Comment Request

AGENCIES: Federal Deposit Insurance Corporation (FDIC); Office of Thrift Supervision (OTS), Treasury.

ACTION: Joint notice of information collection to be submitted to OMB for review and approval under the Paperwork Reduction Act of 1995.

SUMMARY: As part of their continuing effort to reduce paperwork burden in accordance with the Paperwork Reduction Act of 1995 (44 U.S.C. 3501 et seq.), the FDIC and OTS (collectively, the Agencies) hereby give notice that they plan to submit to the Office of Management and Budget (OMB) a request for OMB review and approval of revisions to the information collection described below. The Agencies may not conduct or sponsor, and a respondent is not required to respond to, an information collection unless it displays a currently valid Office of Management and Budget (OMB) control number.

Titles:

FDIC: Beneficial Ownership Reports.

OTS: '34 Act Disclosures

OMB Control Numbers:

FDIC: 3064-0030.

OTS: 1550-0019.

Form Numbers:

FDIC: SEC 3, 4, and 5.

OTS: SEC Schedules 13D, 13G, 14A, 14C, 14D-1, and TO; SEC Forms 3, 4, 5, 10, 10-SB, 10-K, 10-KSB, 8-K, 8-A, 12b-25, 10-Q, 10-QSB, 15, and annual report.

Expiration of current OMB clearance:

FDIC: August 31, 2006.

OTS: March 31, 2004.

Affected Public:

FDIC: Directors, officers and principal shareholders of insured financial institutions (insiders).

OTS: Directors, officers and principal shareholders of insured financial institutions (insiders); savings associations.

DATES: Comments should be submitted by March 12, 2004.

ADDRESSES: Comments should be directed to the Agencies and the OMB Desk Officer for the Agencies as follows:

FDIC: Steven F. Hanft, Paperwork Clearance Officer, Legal Division, Room MB-3064, Federal Deposit Insurance Corporation, 550 17th Street, NW., Washington, DC 20429. All comments should refer to “beneficial ownership reports.” Comments may be hand-delivered to the guard station at the rear of the 550 17th Street Building (located on F Street), on business days between 7 a.m. and 5 p.m. Commenters are encouraged to submit comments by fax or electronic mail (FAX number: (202) 898-3838; e-mail: comments@fdic.gov).

OTS: Information Collection Comments, Chief Counsel's Office, Office of Thrift Supervision, 1700 G Street, NW., Washington, DC 20552, Attention: 1550-0019, FAX number (202) 906-6518, or e-mail to infocollection.comments@ots.treas.gov. OTS will post comments and the related index on the OTS Internet Site at www.ots.treas.gov. In addition, interested persons may inspect comments at the Public Reading Room, 1700 G Street, NW., by appointment. To make an appointment, call (202) 906-5922, send an e-mail to publicinfo@ots.treas.gov, or send a facsimile transmission to (202) 906-7755.

OMB Desk Officer for the Agencies: Joseph F. Lackey, Jr., Office of Information and Regulatory Affairs, Office of Management and Budget, New Executive Office Building, Room 10235, Washington, DC 20503, or e-mail to jlackeyj@omb.eop.gov.

FOR FURTHER INFORMATION CONTACT: You may request additional information from:

FDIC: Steven F. Hanft, Paperwork Clearance Officer, (202) 898-3907, Legal Division, Federal Deposit Insurance Corporation, 550 17th Street, NW., Washington, DC 20429.

OTS: Marilyn K. Burton, OTS Clearance Officer, (202) 906-6467, Office of Thrift Supervision, 1700 G Street, NW., Washington, DC 20552.

SUPPLEMENTARY INFORMATION: The change to this collection requested by the Agencies concerns the filing method for reports of beneficial ownership by insiders whose equity securities are registered with the Agencies. In the past, the Agencies have required paper filings. The Securities Exchange Act of 1934 (“Exchange Act”), as amended by the Sarbanes-Oxley Act of 2002, changed this requirement to electronic filing. Currently, the Agencies are authorizing voluntary electronic filing through an electronic system, which has been available since July 30. Electronic filing will be made mandatory by a separate, later action by the Agencies. The new electronic system is an important step in the Agencies' ongoing efforts to streamline the filing and retrieval of reports filed with the Agencies under the Securities Exchange Act of 1934. It will also reduce burden on insiders who must file these reports within two business days of completing a transaction in equity securities of the institution.

Additionally, OTS collects other periodic disclosure documents required to be filed by savings associations pursuant to the Exchange Act on forms promulgated by the U.S. Securities and Exchange Commission for its registrants. OTS seeks public comment on its proposed renewal of this collection, in addition to the planned change in filing method for reports of beneficial ownership.

The Agencies' burden estimates follow.

Burden Estimates:

Estimated Number of Respondents:

FDIC: 1,333.

OTS: 16.

Estimated Number of Responses:

FDIC: 1,800.

OTS: 401.

Estimated Annual Burden Hours:

FDIC: 1,100 hours.

OTS: 66,567 hours.

Frequency of Response:

FDIC: On occasion.

OTS: On occasion; quarterly; annually.

Comments: All comments submitted in response to this notice will become a matter of public record. Comments are invited on:

(a) Whether the collection is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated at Washington, DC, this 5th day of February, 2004.
Federal Deposit Insurance Corporation.
Robert E. Feldman,
Executive Secretary.

Dated: February 5, 2004.
By the Office of Thrift Supervision.
Richard M. Riccobono,
Deputy Director.

[FR Doc. 04-2944 Filed 2-10-04; 8:45 am]

BILLING CODE 6714-01-P; 6720-01-P